DEPARTMENT OF HEALTH AND HUMAN SERVICES

Meeting Announcement for the Technical Advisory Panel on Medicare Trustee Reports

ACTION: Notice of public meeting.

SUMMARY: This notice announces the meeting dates for the Technical Advisory Panel on Medicare Trustee Reports on Tuesday, May 2, 2017 and Wednesday May 3, 2017 in Washington, DC

DATES: The meeting will be held on Tuesday, May 2, 2017 from 9:15 a.m. to 5:00 p.m. Eastern Time and Wednesday May 3, 2017 from 9:00 a.m. to 3:30 p.m. Eastern Time. The meetings are open to the public.

ADDRESSES: The meeting will be held at Hubert Humphrey Building 200 Independence Ave. SW., Washington, DC 20201 Room 738G.3.

FOR FURTHER INFORMATION CONTACT: Dr. Donald Oellerich, Designated Federal Officer, at the Office of Human Services Policy, Assistant Secretary for Planning and Evaluation, U.S. Department of Health and Human Services, 200 Independence Ave. SW., Washington, DC 20201, don.oellerich@hhs.gov or (202) 690-8410.

SUPPLEMENTARY INFORMATION: I. Purpose: The Panel will discuss the long-term rate of change in health spending and may make recommendations to the Secretary on how the Medicare Trustees might more accurately estimate health spending in the short and long run. The Panel's discussion is expected to be very technical in nature and will focus on the actuarial and economic assumptions and methods by which Trustees might more accurately measure health spending. This Committee is governed by the provisions of the Federal Advisory Committee Act, as amended (5 U.S.C. App. 2, section 10(a)(1) and (a)(2)). The Committee is composed of nine members appointed by the Assistant Secretary for Planning and Evaluation.

II. Agenda: The Panel will likely discuss draft findings and recommendations for inclusion in the panel's final report. Discussions will likely include findings and recommendations regarding long range growth, sustainability of provider payments under Affordable Care Act (ACA) and Medicare Access and Chip Reauthorization Act (MACRA), methods for transitioning from short term (10 year) to long term (75 year) projections and methods and the presentation of uncertainty in the report. After any presentations, the Panel will deliberate openly on the topics. Interested persons may observe the deliberations, but the Panel will not hear public comments during this time. The Panel will also allow an open public session for any attendee to address issues specific to the topic.

III. Meeting Attendance: The Tuesday, May 2, 2017 and Wednesday, May 3, 2017 meetings are open to the public; however, in-person attendance is limited to space available.

IV. Meeting Registration: The public may attend the meeting in-person. Space is limited and registration is required in order to attend in-person. Registration may be completed by emailing all the following information to Donald Oellerich at don.oellerich@hhs.gov or calling 202-690-8410:

Name.

Company name.

Postal address.

Email address.

If sign language interpretation or other reasonable accommodation for a disability is needed, please contact Dr. Oellerich, no later than April 25, 2017 by sending an email message to don.oellerich@hhs.gov or calling 202-690-8410.

A confirmation email will be sent to the registrants shortly after completing the registration process.

V. Special Accommodations: Individuals requiring special accommodations must include the request for these services during registration.

VI. Copies of the Charter: The Secretary's Charter for the Technical Advisory Panel on Medicare Trustee Reports is available upon request from Dr. Donald Oellerich at don.oellerich@hhs.gov or by calling 202-690-8410.

Dated: March 31, 2017.
John R. Graham,
Acting Assistant Secretary for Planning and Evaluation.

[FR Doc. 2017-07411 Filed 4-11-17; 8:45 am]

BILLING CODE 4150-05-P